DEPARTMENT OF HEALTH AND HUMAN SERVICES

[Document Identifier OS-0990-0323]

Agency Information Collection Request; 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before April 3, 2023.

ADDRESSES: Submit your comments to Sherrette.Funn@hhs.gov or by calling (202) 264-0041 and PRA@HHS.GOV.

FOR FURTHER INFORMATION CONTACT: When submitting comments or requesting information, please include the document identifier 0990-0323 60D and project title for reference, to Sherrette A. Funn, email: Sherrette.Funn@hhs.gov, PRA@HHS.GOV or call (202) 264-0041 the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: MedicalCountermeasures.gov.

Type of Collection: Reinstatement without change.

OMB No.: OMB 0990-0323.

Abstract: (Department of Health and Human Services, Administration for Strategic Preparedness and Response (ASPR).

The U.S. Government seeks information from stakeholders on available medical countermeasures in development, with a particular interest in products, technologies, and capabilities that have progressed into or beyond clinical trials, have established large-scale cGMP manufacturing capability, or utilize an approved platform. Information regarding diagnostics, therapeutics, vaccines, and other products, technologies, or capabilities relevant to respond to public health emergencies are sought. The TechWatch program, run by ASPR/BARDA, provides the Medicalcountermeasures.gov bdr.hhs.gov portal as a single point of entry for the submission of meeting requests from interested stakeholders with promising MCM products, technologies, and capabilities.

Annualized Burden Hour Table
Forms (if necessary) | Respondents (if necessary) | Number of respondents | Number of responses per respondents | Average burden per response | Total burden hours
1 | Developers of medical countermeasures addressing naturally occurring and intentional public health threats | 350 | 1 | 8/60 | 47
Total |  |  | 350 |  | 47

Sherrette A. Funn,
Paperwork Reduction Act Reports Clearance Officer, Office of the Secretary.

[FR Doc. 2023-01877 Filed 1-30-23; 8:45 am]

BILLING CODE 4150-37-P